DEPARTMENT OF HEALTH AND HUMAN SERVICES

Centers for Disease Control and Prevention

[60Day-13-13SL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Work@Health Program: Phase 1 Needs Assessment and Pilot Training Evaluation—New—National Center for Chronic Disease Prevention and Health Promotion (NCCDPHP), Centers for Disease Control and Prevention (CDC).

Background and Brief Description

In the United States, chronic diseases such as heart disease, obesity and diabetes are among the leading causes of death and disability. Although chronic diseases are among the most common and costly health problems, they are also among the most preventable. Adopting healthy behaviors—such as eating nutritious foods, being physically active and avoiding tobacco use—can prevent the devastating effects and reduce the rates of these diseases.

Employers are recognizing the role they can play in creating healthy work environments and providing employees with opportunities to make healthy lifestyle choices. To support these efforts, the Centers for Disease Control and Prevention (CDC) plans to offer a comprehensive workplace health training program called Work@Health. The Work@Health Program is authorized by the Public Health Service Act and funded through the Prevention and Public Health Fund of the Patient Protection and Affordable Care Act (ACA). The Work@Health curriculum will be based on a problem-solving approach to improving employer knowledge and skills related to effective, science-based workplace health programs, and supporting the adoption of these programs in the workplace. Topics to be covered in the Work@Health curriculum include principles, strategies, and tools for leadership engagement; how to make a business case for workplace health programs; how to assess the needs of organizations and individual employees; how to plan, implement, and evaluate sustainable workplace health programs; and how to partner with community organizations for additional support.

The Work@Health Program will be implemented in two phases. In Phase 1, CDC will conduct an employer needs assessment, develop training models, and conduct pilot training and evaluation with approximately 72 employers and other organizations. In Phase 2, CDC will transition to full-scale program implementation and evaluation involving approximately 600 employers and other organizations.

CDC is requesting OMB approval to initiate Phase 1 information collection in summer 2013. A one-time Training Needs Assessment Survey will be administered electronically to 200 employers representing small, mid-size, and large businesses from various industry sectors and geographic locales. The needs assessment survey will allow CDC to assess employer preferences with respect to curriculum content, the types of support materials needed by employers and the appropriate level of detail for these materials, and the best approaches for providing technical assistance to employers. The estimated burden per response for the needs assessment survey is 20 minutes.

The results of the needs assessment will inform the development of the Work@Health training curriculum and delivery methods. CDC anticipates that training will be offered in four models (formats): (1) A “Hands-on” instructor-led workshop model (T1), (2) a self-paced “Online” model (T2), (3) a combination or “Blended” model (T3), and (4) a “Train-the-Trainer” model (T4) designed to prepare qualified individuals to train employers through the Hands-on, Online, or Blended models.

Employers who are interested in participating in Work@Health training will be asked to complete a Pilot Employer Application Form. To be eligible for the T1-T3 pilot trainings, employers must have a minimum of 30 employees, a valid business license, and have been in business for at least one year. In addition, they must offer health insurance to their employees and have minimal workplace health program knowledge and experience. To be eligible for the T4 training model, applicants may be employers, health departments, business coalitions, trade associations, or other organizations. Participants in the T4 training must have previous knowledge, training and experience with workplace health programs, and an interest in becoming facilitators for the Work@Health program.

CDC anticipates the receipt of approximately 400 applications. CDC will use the application information to select 72 respondents for Phase 1 pilot training and evaluation activities (18 respondents per model). Three-fourths of these individuals will represent small and mid-size employers. Upon completion of the pilot training, each participant will be asked to complete a 15-20 minute evaluation survey. The customized survey questions will allow CDC to assess respondent satisfaction with the procedures, methods, content and strategies employed in each workplace health training model. The information collected in the pilot training evaluation surveys will inform future modifications and improvements to the training based on employers' experiences, needs, and recommendations. Only the evaluation survey for the Online model pilot will be the administered electronically, all others will be paper/pencil surveys.

Participation is voluntary and there are no costs to participants other than their time. A separate information collection request will be submitted to obtain OMB approval for Phase 2 information collection.

Estimated Annualized Burden Hours
Type of respondents | Form name | Number of respondents | Number of responses per respondent | Average burden per response (in hr) | Total burden (in hr)
Employers | Training Needs Assessment Survey | 200 | 1 | 20/60 | 67
Employers Participating in the Work@Health Pilot Training Program | Pilot Employer Application Form | 400 | 1 | 5/60 | 33
| Hands-On Pilot Training Evaluation Survey | 18 | 1 | 15/60 | 5
| Hands-On Pilot Training Evaluation Survey | 18 | 1 | 15/60 | 5
| Blended Model Pilot Training Evaluation Survey | 18 | 1 | 20/60 | 6
| Pilot Training Train-the-Trainer Evaluation Survey | 18 | 1 | 15/60 | 5
Total |  |  |  |  | 121

Ron A. Otten,
Director, Office of Scientific Integrity, Office of the Associate Director for Science, Office of the Director, Centers for Disease Control and Prevention.

[FR Doc. 2013-11672 Filed 5-15-13; 8:45 am]

BILLING CODE 4163-18-P